NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by March 4, 2021. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Public Law 95-541, 45 CFR 671), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2021-007

1. Applicant: Lynne Talley, Scripps Institution of Oceanography, UCSD, La Jolla, CA 92093-0230.

Activity for Which Permit is Requested

Type, description of activity.

Location

Waste Management. The applicant is seeking a waste management permit for waste management activities associated with the deployment of floating oceanographic profiling instruments (Argo floats) in Southern Ocean waters. The Argo floats would autonomously collect temperature, salinity, oxygen, pH, nitrate, fluorescence, backscatter, and irradiance from 0 to 2000 m, every 10 days. The floats would freely drift and would likely leave and enter the region over the course of their operational lifetimes. The applicant proposes to release a maximum of 150 Argo floats south of 60°S during the permit period. Float dimensions are 75 inches tall by 9 inches diameter, weighing approximately 65 lbs. Each float includes 19DD lithium cells, with approximately 0.198 gm of lithium. The floats would drift at 1000 m depth and come to the surface every 10 days. Their lifetime is approximately 5 years, after which the batteries would be depleted and the floats would no longer surface, but would remain in the ocean and sink to the ocean floor. The Agro floats deployed in the Southern Ocean would be part of a global array. The Argo array provides operational and research data that inform nowcast and forecast services, contributing to saving lives, avoiding property damage, and informing the public and government responses to environmental variability and change.

Dates of Permitted Activities

February 1, 2021-October 31, 2025.

Erika N. Davis,
Program Specialist, Office of Polar Programs.

[FR Doc. 2021-02170 Filed 2-1-21; 8:45 am]

BILLING CODE 7555-01-P